DEPARTMENT OF HOMELAND SECURITY

U.S. Customs and Border Protection

Agency Information Collection Activities; Arrival and Departure Record

(Forms I-94 and I-94W)

AGENCY: U.S. Customs and Border Protection, Department of Homeland Security.

ACTION: 30-Day Notice and request for comments; Revision of an existing information collection: 1651-0111.

SUMMARY: U.S. Customs and Border Protection (CBP) of the Department of Homeland Security has submitted the following information collection request to the Office of Management and Budget (OMB) for review and approval in accordance with the Paperwork Reduction Act: Arrival and Departure Record, Forms I-94 and I-94W. This is a revision of an existing collection of information. This document is published to obtain comments from the public and affected agencies. This proposed information collection was previously published in the Federal Register (72 FR 63622) on November 9, 2007, allowing for a 60-day comment period. Seven public comments were received. CBP will respond to these comments. This notice allows for an additional 30 days for public comments. This process is conducted in accordance with 5 CFR 1320.10.

DATES: Written comments should be received on or before March 5, 2008.

ADDRESSES: Interested persons are invited to submit written comments on the proposed information collection to the Office of Information and Regulatory Affairs, Office of Management and Budget. Comments should be addressed to Nathan Lesser, Desk Officer, Department of Homeland Security/Customs and Border Protection, and sent via electronic mail to oira_submission@omb.eop.gov or faxed to (202) 395-6974.

SUPPLEMENTARY INFORMATION: U.S. Customs and Border Protection (CBP) encourages the general public and affected Federal agencies to submit written comments and suggestions on proposed and/or continuing information collection requests pursuant to the Paperwork Reduction Act of 1995 (Pub. L.104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological collection techniques or other forms of information technology, e.g., permitting electronic submission of responses.

Title: Arrival and Departure Record.

OMB Number: 1651-0111.

Form Number: I-94 and I-94W.

Abstract: These forms must be completed and signed by aliens arriving by commercial sea and air, who seek admission to the United States. These forms must be given to the CBP Officer at the U.S. port of entry. CBP proposes to revise this information collection by adding data fields for: e-mail address; phone number; passport issuance date; and passport expiration date to the I-94 and I-94W.

Current Actions: This submission is being submitted to revise the current information collection.

Type of Review: Revision.

Affected Public: Individuals.

Estimated Number of Respondents: 30,924,380.

Estimated Time per Respondent: 8 minutes.

Estimated Total Annual Burden Hours: 4,112,943.

Estimated Total Annualized Cost on the Public: $247,385,705.

If additional information is required contact: Tracey Denning, U.S. Customs and Border Protection, 1300 Pennsylvania Avenue, NW., Room 3.2.C, Washington, DC 20229, at 202-344-1429.

Dated: January 24, 2008.
Tracey Denning,
Agency Clearance Officer, Information Services Branch.

[FR Doc. E8-1956 Filed 2-1-08; 8:45 am]

BILLING CODE 9111-14-P